ENVIRONMENTAL PROTECTION AGENCY

[EPA-HQ-OPP-2014-0009; FRL-9911-58]

Pesticide Products; Registration Applications for New Active Ingredients; Correction

AGENCY: Environmental Protection Agency (EPA).

ACTION: Notice; correction.

SUMMARY: EPA issued a notice in the Federal Register of April 18, 2014, (79 FR 21919) concerning pending registration applications for pesticide products containing an active ingredient not included in any currently registered pesticide products. This document corrects the erroneous reference of establishing a Guideline Reference Level (GRL) for residues of oxathiapiprolin in or on tobacco, dried leaves. The United States does not establish GRLs and this reference was an error.

FOR FURTHER INFORMATION CONTACT: Lois Rossi, Registration Division (7505P), email address: RDFRNotices@epa.gov; telephone number: (703) 305-7090, Office of Pesticide Programs, Environmental Protection Agency, 1200 Pennsylvania Ave. NW., Washington, DC 20460-0001.

SUPPLEMENTARY INFORMATION:

I. General Information

A. Does this action apply to me?

The Agency included in the Federal Register notice of April 18, 2014 (79 FR 21919) (FRL-9908-54) notice a list of those who may be potentially affected by this action.

B. How can I get copies of this document and other related information?

The docket for this action, identified by docket identification (ID) number EPA-HQ-OPP-2014-0009, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

FR Doc. 2014-08769 published in the Federal Register of April 18, 2014 (79 FR 21920) (FRL-9908-54) on page 21920 under Unit II. paragraph 1. is corrected to read as follows:

1. EPA File Symbols: 352-ION, 352-IOR, and 352-IOE. Docket ID Number: EPA-HQ-OPP-2014-0114. Applicant: E.I. du Pont de Nemours & Company, 1007 Market St., Wilmington, DE 19898. Active Ingredient: Oxathiapiprolin. Product Type: Fungicide. Proposed Uses: Imported grapes; root and tuber vegetables, tuberous and corm vegetables (crop group 1C); bulb vegetables, onion, bulb (crop subgroup 3-07A); bulb vegetables, onion, green (crop subgroup 3-07B); fruiting vegetables (crop group 8-10); cucurbit vegetables (crop group 9); Brassica (cole) leafy vegetables, head and stem Brassica (crop subgroup 5A); leafy vegetables (except Brassica vegetables), leafy greens (crop subgroup 4A); peas, edible podded; peas, succulent, shelled; and ginseng, root. (RD).

List of Subjects

Environmental protection, Pesticides and pests.

Dated: June 3, 2014.
Lois Rossi,
Director, Registration Division, Office of Pesticide Programs.

[FR Doc. 2014-13493 Filed 6-10-14; 8:45 am]

BILLING CODE 6560-50-P